ENVIRONMENTAL PROTECTION AGENCY

40 CFR Part 300

[FRL-6604-7]

National Oil and Hazardous Substances Pollution Contingency Plan; National Priorities List

AGENCY: Environmental Protection Agency (EPA).

ACTION: Proposal to delete releases at the Mid-Atlantic Wood Preservers, Inc. Site from the National Priorities List (NPL).

SUMMARY: The EPA proposes to delete releases at the Mid-Atlantic Wood Preservers, Inc. Site (the Site) from the NPL and requests public comment on this action. The NPL constitutes appendix B of 40 CFR part 300, which is the National Oil and Hazardous Substances Pollution Contingency Plan (NCP), which EPA promulgated pursuant to Section 105 of the Comprehensive Environmental Response, Compensation, and Liability Act of 1980 (CERCLA), as amended. The EPA has determined that no further response pursuant to CERCLA is appropriate.

DATES: Comments concerning this deletion must be received by June 19, 2000.

ADDRESSES: Comments may be mailed to Matthew T. Mellon, Remedial Project Manager, U.S. EPA, Region III, 1650 Arch Street (3HS23), Philadelphia, PA 19103-2029.

Comprehensive information on the Site is available at EPA's Region III office and at the local information repository located at the Provinces Branch Library, Severn Square Shopping Center, 2624 Annapolis Road, Severn, MD, 21144.

Requests for copies of documents associated with this action should be directed to the Region III Docket Office. The address and phone number for the Regional Docket Officer is U.S. EPA Region III Public Reading Room, 1650 Arch Street, Philadelphia, PA 19103-2029, (215) 814-3157.

FOR FURTHER INFORMATION CONTACT: Matthew T. Mellon, Remedial Project Manager, U.S. EPA, Region III, 1650 Arch Street (3HS23), Philadelphia, PA 19103-2029, (215) 814-3168, or Richard Kuhn, Community Involvement Coordinator, U.S. EPA, Region III, 1650 Arch Street (3HS43), Philadelphia, PA 19103-2029, (215) 814-3063.

SUPPLEMENTARY INFORMATION: For additional information, see the Direct Final notice which is located in the Rules section of this Federal Register.

Dated: April 5, 2000.
Bradley M. Campbell,
Regional Administrator.

[FR Doc. 00-12517 Filed 5-18-00; 8:45 am]

BILLING CODE 6560-50-P